OFFICE OF SCIENCE AND TECHNOLOGY POLICY

Orbital Debris Research and Development Interagency Working Group Listening Sessions; Withdrawal

AGENCY: Office of Science and Technology Policy (OSTP).

ACTION: Notice; withdrawal.

SUMMARY: The Office of Science and Technology Policy (OSTP) published a document in the Federal Register of December 10, 2021, regarding two meetings. These meetings have been cancelled and will be rescheduled. OSTP will publish an updated notice with the rescheduled information in the future.

DATES: This withdrawal is effective December 15, 2021.

FOR FURTHER INFORMATION CONTACT: Ezinne Uzo-Okoro at OrbitalDebris@ostp.eop.gov or by calling 202-456- 4444.

SUPPLEMENTARY INFORMATION: In the Federal Register of December 10, 2021, withdraw FR Doc 2021-26729. The meetings announced in this notice have been cancelled and will be rescheduled. OSTP will publish an updated notice with the rescheduled information in the future.

Authority: 86 FR 70547.

Dated: December 13, 2021.
Stacy Murphy,
Operations Manager.

[FR Doc. 2021-27248 Filed 12-14-21; 8:45 am]

BILLING CODE P